DEPARTMENT OF AGRICULTURE

Rural Housing Service

Rural Business-Cooperative Service

Rural Utilities Service

Notice of Funds Availability Under the American Recovery and Reinvestment Act, 2009; Correction

AGENCIES: Rural Housing Service, Rural Business-Cooperative Service, and Rural Utilities Service, USDA.

ACTION: Notice; correction.

SUMMARY: The Rural Housing Service (RHS), Rural Business-Cooperative Service (RBS), and Rural Utilities Service (RUS) published a document in the Federal Register on July 23, 2009, at 74 FR 36448. The document did not provide a date for the comment period for the collection of information under the DATES section or the “Comments” under the Paperwork Reduction Act section.

FOR FURTHER INFORMATION CONTACT: Information regarding this correction should be directed to Cheryl Thompson, Regulations and Paperwork Management Branch, 202-692-0043.

Correction

In the Federal Register of July 23, 2009, in FR Doc. E9-17512, the corrections are as follows:

1. On page 36448, in the first column, at the end of the paragraph under DATES, add the following paragraph:

The comment period for information collection under the Paperwork Reduction Act of 1995 continues through September 21, 2009. Comments on the paperwork burden must be received by this date to be assured of consideration.

2. On page 36450, in the second column, at the end of the paragraph under “Paperwork Reduction Act”, add the following paragraph:

Comments

Comments are invited regarding: (a) Whether the proposed collection of information is necessary for the proper performance of the functions of Rural Development, including whether the information will have practical utility; (b) the accuracy of Rural Development's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Cheryl Thompson, Regulations and Management Branch, Support Services Division, U.S. Department of Agriculture, Rural Development, STOP 0742, 1400 Independence Ave., SW., Washington, DC 20250. All responses to this Notice will be summarized and included in the request for OMB approval. All comments will also be a matter of public record.

Dated: August 18, 2009.
Dallas Tonsager,
Under Secretary.

[FR Doc. E9-20347 Filed 8-24-09; 8:45 am]

BILLING CODE 3410-XY-P